DEPARTMENT OF JUSTICE

Office of Justice Programs

[OMB Number 1121-0219]

Agency Information Collection Activities; Proposed eCollection eComments Requested; Extension Without Change, of a Previously Approved Collection Juvenile Residential Facility Census (JRFC)

AGENCY: Office of Justice Programs, Department of Justice.

ACTION: 60-Day notice.

SUMMARY: The Department of Justice (DOJ), Office of Justice Programs, will be submitting the following information collection request to the Office of Management and Budget (OMB) for review and approval in accordance with the Paperwork Reduction Act of 1995.

DATES: Comments are encouraged and will be accepted for 60 days until June 24, 2019.

FOR FURTHER INFORMATION CONTACT: If you have additional comments especially on the estimated public burden or associated response time, suggestions, or need a copy of the proposed information collection instrument with instructions or additional information, please contact Benjamin Adams, Social Science Analyst, National Institute of Justice, 810 Seventh Street NW, Washington, DC 20531 (email: benjamin.adams@usdoj.gov; telephone: 202-616-3687).

SUPPLEMENTARY INFORMATION: Written comments and suggestions from the public and affected agencies concerning the proposed collection of information are encouraged. Your comments should address one or more of the following four points:

—Evaluate whether the proposed collection of information is necessary for the proper performance of the functions of the agency, including whether the information shall have practical utility;

—Evaluate whether the accuracy of the agency's estimate of the burden on the proposed collection of information, including the validity of the methodology and assumptions that were used;

—Evaluate whether and if so how the quality, utility, and clarity of the information collected can be enhanced; and

—Minimize the burden of the collection of information on those who are to respond, including use of appropriate automated, electronic, mechanical, or other technological collection techniques or other forms of information technology, e.g., permitting electronic submission of responses.

Overview of this information collection:

1. Type of Information Collection: Extension, without change, of a currently approved collection.

2. The Title of the Form/Collection: Juvenile Residential Facility Census.

3. The agency form number, if any, and the applicable component of the Department sponsoring the collection: The form number is CJ-15, Office of Justice Programs, United States Department of Justice.

4. Affected public who will be asked or required to respond, as well as a brief abstract: Primary: Federal Government, State, Local or Tribal. Other: Not-for-profit institutions; Business or other for-profit. Abstract: The Juvenile Residential Facility Census (JRFC), which is administered biennially, collects information from all secure and nonsecure residential placement facilities that house juvenile offenders about how juvenile facilities operate and the services they provide. The information gathered in the national collection will be used in published reports and statistics. The reports will be made available to the U.S. Congress, Executive Office of the President, practitioners, researchers, students, the media, others interested in juvenile facilities, and the general public via the OJP agency websites.

5. An estimate of the total number of respondents and the amount of time estimated for an average respondent to respond: The number of respondents in the facility universe is currently 2,208. It is estimated that 1,988 respondents will complete the entire questionnaire in an average of 2 hours per respondent (2 hours × 1,988 facilities = 3,976 hours). It is anticipated that approximately 10 percent or 220 facilities will provide critical item data by phone during nonresponse follow-up calls taking an average of 10 minutes (10 minutes × 220 facilities = 36.7 hours). It is also anticipated that approximately 10 percent or 220 facilities will provide updated contact information on calls taking an average of 5 minutes (5 minutes × 220 facilities = 18.3 hours).

6. An estimate of the total public burden (in hours) associated with the collection: There are an estimated 4,031 total burden hours associated with the collection.

If additional information is required contact: Melody Braswell, Department Clearance Officer, United States Department of Justice, Justice Management Division, Policy and Planning Staff, Two Constitution Square, 145 N Street NE, 3E.405A, Washington, DC 20530.

Dated: April 19, 2019.
Melody Braswell,
Department Clearance Officer for PRA, U.S. Department of Justice.

[FR Doc. 2019-08258 Filed 4-23-19; 8:45 am]

BILLING CODE 4410-18-P